DEPARTMENT OF LABOR

Employment and Training Administration

Tribal Consultation; Workforce Innovation and Opportunity Act, Implementation of the Effectiveness in Serving Employers Performance Indicator

AGENCY: Employment and Training Administration, Department of Labor.

ACTION: Notice of tribal consultation; virtual meeting.

SUMMARY: The Department of Labor is announcing that it will be conducting a tribal consultation. This virtual meeting is to obtain input from tribes as the Department of Labor is considering incorporating a standard definition for the effectiveness in serving employers performance indicator in the regulations for the Indian and Native American Programs authorized under the Workforce Innovation and Opportunity Act (WIOA).

DATES: This tribal consultation meeting will take place on Tuesday, October 19, 2021, at 2 p.m. ET.

ADDRESSES: This virtual meeting will be publicly-accessible on the WorkforceGPS, an online technical assistance platform sponsored by the Employment and Training Administration. Registration information for this tribal consultation can be found on https://www.workforcegps.org/events.

FOR FURTHER INFORMATION CONTACT: Leo Lestino, Director, Division of Policy, Legislation, and Regulations, Office of Policy Development and Research, Employment and Training Administration at (202) 693-2873.

SUPPLEMENTARY INFORMATION: Under WIOA, there are six primary indicators of performance. Five of the six indicators are currently defined in regulations; however, in the joint final rule implementing WIOA (81 FR 55791) the Departments of Labor and Education (the Departments) determined that it was prudent to test various alternatives for the sixth indicator of performance, which measures the workforce system's effectiveness in serving employers. That process is now complete and the Departments are engaging in a rulemaking to incorporate a standard definition of the performance indicator for effectiveness in serving employers indicator into the WIOA regulations.

In addition, Executive Order 13175, Consultation and Coordination with Indian Tribal Governments (65 FR 67249), and the Department of Labor's Tribal Consultation Policy (77 FR 71833) require the Department of Labor to solicit input by tribal officials in the development of Federal policies that have tribal implications. Accordingly, this tribal consultation seeks to provide tribes an opportunity to provide input as the Department develops the proposed definition for the effectiveness in serving employers performance indicator in 20 CFR part 684, the regulations governing the Indian and Native American Programs authorized under sec. 166 of WIOA.

Lenita Jacobs-Simmons,
Acting Assistant Secretary for Employment and Training, Labor.

[FR Doc. 2021-21234 Filed 9-29-21; 8:45 am]

BILLING CODE 4510-FN-P